ELECTION ASSISTANCE COMMISSION

Meeting Notice

AGENCY: U.S. Election Assistance Commission.

ACTION: Notice of Public Quarterly Conference Call for EAC Board of Advisors.

DATES: Monday, July 22, 2019, 3-4 p.m. (EDT).

ADDRESSES: EAC Board of Advisers Quarterly Conference Call.

To listen and monitor the event as an attendee

1. Go to: https://eacevents.webex.com/eacevents/onstage/g.php?MTID;=e48265b08291ba48341776d381acc002d.

2. Click “Join Now”.

To join the audio conference only:

1. To receive a call back, provide your phone number when you join the event, or

2. call the number below and enter the access code.

US TOLL FREE: +1-855-892-3345

US TOLL: +1-415-527-5035

Access code: 909 320 921

(See toll-free dialing restrictions at https://www.webex.com/pdf/tollfree_restrictions.pdf)

For assistance: contact the host, Steve Uyak, suyak@eac.gov.

Purpose: In accordance with the Federal Advisory Committee Act (FACA), Public Law 92-463, as amended (5 U.S.C. Appendix 2), the U.S. Election Assistance Commission (EAC) Board of Advisors will conduct a conference call to discuss current EAC activities.

Agenda: The Board of Advisors (BOA) will receive updates from EAC staff and BOA officers regarding EAC activities; the 2018 EAVS—Election Administration and Voting Survey; the EAC 2019 EAC Data Summit; Board of Advisors' Committees; and General Issues. The Board of Advisors will discuss the next Quarterly BOA Conference Call. There will be no votes conducted on this call.

SUPPLEMENTARY INFORMATION: Members of the public may submit relevant written statements to the Board of Advisors with respect to the meeting no later than 10 a.m. EDT on Monday, July 22, 2019. Statements may be sent via email to contact us at https://www.eac.gov/contact/, via standard mail addressed to the U.S. Election Assistance Commission, 1335 East-West Highway, Suite 4300, Silver Spring, MD 20910, or by fax at 301-734-3108.

This conference call will be open to the public.

FOR FURTHER INFORMATION CONTACT: Bert Benavides, Telephone: (301) 563-3937.

Clifford D. Tatum,
General Counsel, U.S. Election Assistance Commission.

[FR Doc. 2019-14804 Filed 7-11-19; 8:45 am]

BILLING CODE 6820-KF-P